DEPARTMENT OF COMMERCE

Bureau of Industry and Security

Action Affecting Export Privileges; Zheng Zheng; In the Matter of: Zheng Zheng, Univision Technology, Inc., 764 Violet Circle, Naperville, IL 60540, Respondent

Order Relating to Zheng Zheng

The Bureau of Industry and Security, U.S. Department of Commerce (“BIS”) has notified Zheng Zheng, President of Univision Technology, Inc. (“Univision”), in her individual capacity (“Zheng”), of its intention to initiate an administrative proceeding against Zheng pursuant to Section 766.3 of the Export Administration Regulations (currently codified at 15 CFR parts 703-774 (2006)) (“Regulations”),¹ and Section 13(c) of the Export Administration Act of 1979, as amended (50 U.S.C. app. §§ 2401-2402 (2000)) (“Act”),² by issuing a proposed charging letter to Zheng that alleged that Zheng committed 11 violations of the Regulations. Specifically, the charges are:

¹ The charged violations occurred between 2000 and 2003. The Regulations governing the violations at issue are found in the 2000 through 2003 versions of the Code of Federal Regulations (15 CFR parts 730-774 (2000-2003)). The 2006 Regulations set forth the procedures that apply to this matter.

² From August 21, 1994 through November 12, 2000, the Act was in lapse. During that period, the President, through Executive Order 12924, which had been extended by successive Presidential Notices, the last of which was August 3, 2000 ( 3 CFR, 2000 Comp. 397 (2001)), continued the Regulations in effect under the International Emergency Economic Powers Act (50 U.S.C. 1701-1706 (2000)) (“IEEPA”). On November 13, 2000, the Act was reauthorized and it remained in effect through August 20, 2001. Since August 21, 2001, the Act has been in lapse and the President, through Executive Order 13222 of August 17, 2001 (3 CFR, 2001 Comp. 783 (2002)), as extended by the Notice of August 3, 2006 (71 FR 44,551 (August 7, 2006)), has continued the Regulations in effect under the IEEPA.

Charges 1-5: 15 CFR 764.2(b): Causing the Export of Items Without the Required Department of Commerce Licenses: On five occasions between on or about August 25, 2000, and on or about July 2001, Zheng engaged in conduct prohibited by the Regulations by causing the export of microwave transistors, microwave amplifiers, and related equipment, items subject to the Regulations and classified under Export Control Classification Number 3A001, from the United States to the People's Republic of China (“China”), without obtaining licenses from the Department of Commerce as required by Section 742.4 of the Regulations. In so doing, Zheng committed five violations of Section 764.2(b) of the Regulations.

Charges 6-10: 15 CFR 764.2(e): Acting With Knowledge That a Violation of the Regulations Was About To Occur: In connection with the transactions referenced in Charges One through Five above, Zheng ordered or transferred items, including microwave transistors, microwave amplifiers, and related equipment, that were to be exported from the United States with knowledge that violations of the Regulations would occur. Specifically, Zheng was informed by Univision's suppliers and others that the aforementioned items required export licenses. As such, Zheng, at all relevant times, knew that the items required licenses if exported to China and that no such licenses would be obtained. In so doing, Zheng committed five violations of Section 764.2(e) of the Regulations.

Charge 11: 15 CFR 764.2(g): False Statement to a BIS Special Agent in the Course of an Investigation: On or about January 21, 2003, Zheng made a false or misleading statement to officials of the U.S. Government in the course of an investigation conducted by BIS regarding the export of certain items to China. Specifically, in the course of an interview conducted by agents from BIS, Zheng represented that she had never purchased or exported any items that required an export license. This representation was false or misleading, as Zheng had, on one or more occasions, arranged for the export of various electronic components, items requiring a Department of Commerce license for export to China. In so doing, Zheng committed one violation of Section 764.2(g) of the Regulations.

Whereas, BIS and Zheng have entered into a Settlement Agreement pursuant to Section 766.18(a) of the Regulations whereby they agreed to settle this matter in accordance with the terms and conditions set forth therein; and

Whereas, I have approved of the terms of such Settlement Agreement:

It is therefore ordered:

First, that a civil penalty of $288,150 is assessed against Zheng, of which $20,000 shall be paid to the U.S. Department of Commerce within 30 days from the date of entry of this Order; $20,000 shall be paid to the U.S. Department of Commerce not later than March 15, 2007; $20,000 shall be paid to the U.S. Department of Commerce not later than September 15, 2007; $20,000 shall be paid to the U.S. Department of Commerce not later than March 15, 2008; and $20,000 shall be paid to the U.S. Department of Commerce not later than September 15, 2008. Payment of the remaining $188,150 shall be suspended for a period of three years and thereafter shall be waived, provided that during the period of suspension, Zheng has committed no violations of the Act, or any regulation, order, or license issued thereunder and Zheng has made the payment of $100,000 described above in a timely manner. Payment shall be made in the manner specified in the attached instructions.

Second, that, pursuant to the Debt Collection Act of 1982, as amended (3 U.S.C. 3701-3720E (2000)), the civil penalty owed under this Order accrues interest as more fully described in the attached Notice, and, if payment is not made by the due date specified herein, Zheng will be assessed, in addition to the full amount of the civil penalty and interest, a penalty charge and an administrative charge, as more fully described in the attached Notice.

Third, that the timely payment of the civil penalty set forth above is hereby made a condition to the granting, restoration, or continuing validity of any export license, license exception, permission, or privilege granted, or to be granted, to Zheng. Accordingly, if Zheng should fail to pay the civil penalty in a timely manner, the undersigned may enter an Order denying all of Zheng's export privileges under the Regulations for a period of one year from the date of entry of this Order.

Fourth, for a period of 10 years from the date of entry of the Order, Zheng Zheng, 764 Violet Circle, Naperville, IL 60540, and when acting for or on behalf of Zheng, her representatives, agents, assigns or employees (“Denied Person”), may not, directly or indirectly, participate in any way in any transaction involving any commodity, software, or technology (hereinafter collectively referred to as “item”) exported or to be exported from the United States that is subject to the Regulations, or in any other activity subject to the Regulations, including, but not limited to:

A. Applying for, obtaining, or using any license, License Exception, or export control document;

b. Carrying on negotiations concerning, or ordering, buying, receiving, using, selling, delivering, storing, disposing of, forwarding, transporting, financing, or otherwise servicing in any way, any transaction involving any item exported or to be exported from the United States that is subject to the Regulations, or in any other activity subject to the Regulations; or

C. Benefitting in any way from any transaction involving any item exported or to be exported from the United States that is subject to the Regulations, or in any other activity subject to the Regulations.

Fifth, that no person may, directly or indirectly, do any of the following:

A. Export or reexport to or on behalf of the Denied Person any item subject to the regulations;

B. Take any action that facilitates the acquisition or attempted acquisition by the Denied Person of the ownership, possession, or control of any item subject to the Regulations that has been or will be exported from the United States, including financing or other support activities related to a transaction whereby the Denied Person acquires or attempts to acquire such ownership, possession or control;

C. Take any action to acquire from or to facilitate the acquisition or attempted acquisition from the Denied Person of any item subject to the regulations that has been exported from the United States;

D. Obtain from the Denied Person in the United States any item subject to the Regulations with knowledge or reason to know that the item will be, or is intended to be, exported from the United States; or

E. Engage in any transaction to service any item subject to the Regulations that has been or will be exported from the United States and which is owned, possessed or controlled by the Denied Person, or service any item, of whatever origin, that is owned, possessed or controlled by the Denied Person if such service involves the use of any item subject to the Regulations that has been or will be exported from the United States. For purposes of this paragraph, servicing means installation, maintenance, repair, modification or testing.

Sixth, that the prohibitions set forth above do not apply to transactions in which the Denied Person is involved by virtue of her employment by a company which she neither owns nor controls, provided that she does not have direct, indirect, constructive, or de facto responsibility for:

1. Activities or transactions subject to the Regulations,

2. Participating in negotiations concerning any activity or transaction subject to the Regulations,

3. Determining export licensing requirements, or

4. Applying for, obtaining, or using any export license, License Exception, or other export control document.

Seventh, that, after notice and opportunity for comment as provided in Section 766.23 of the Regulations, any person, firm, corporation, or business organization related to Zheng by affiliation, ownership, control, or position of responsibility in the conduct of trade or related services may also be made subject to the provisions of the Order.

Eighth, that this Order does not prohibit any export, reexport, or other transaction subject to the Regulations where the only items involved that are subject to the Regulations are the foreign-produced direct product of U.S.-origin technology.

Ninth, that the proposed charging letter, the Settlement Agreement, and this Order shall be made available to the public.

Tenth, that this Order shall be served on the Denied Person, and shall be published in the Federal Register.

This Order, which constitutes the final action in this matter, is effective immediately.

Entered this 7th day of September 2006.
Darryl Jackson,
Assistant Secretary of Commerce for Export Enforcement.

[FR Doc. 06-7703 Filed 9-14-06; 8:45 am]

BILLING CODE 3510-PT-M